DEPARTMENT OF AGRICULTURE

Rural Utilities Service

Announcement of Grant Application Deadlines and Funding Levels for the Assistance to High Energy Cost Rural Communities Grant Program

AGENCY: Rural Utilities Service, USDA.

ACTION: Notice of Solicitation of Applications (NOSA); correction.

SUMMARY: The Rural Utilities Service (RUS), an agency of the United States Department of Agriculture (USDA) published a document in the Federal Register on October 12, 2017 announcing the availability of up to $10 million in fiscal year 2017 (FY17) and application deadlines for competitive grants to assist communities with extremely high energy costs. The priority points to be awarded for projects serving communities identified as high poverty communities is 10 points. This notice is to correct inconsistencies on this matter in the NOSA that was published on October 12th.

FOR FURTHER INFORMATION CONTACT: Robin Meigel, USDA—Rural Utilities Service, 1400 Independence Avenue SW., Stop 1568, Washington, DC 20250-1568, telephone (202) 720-9452 or email to robin.meigel@wdc.usda.gov.

Correction

In the Federal Register of October 12, 2017, in FR Doc. 2017-22042, on page 47462, in the first column, the heading “a. High Poverty Areas (15 Points)” should read “a. High Poverty Areas (10 Points).”

Also, in the same FR Doc. 2017-22042, on page 47462, in the first column, under the heading “a. High Poverty Areas” in the first paragraph, the third sentence should begin as follows: “In support of this USDA initiative, RUS will award 10 priority points for projects that serve communities in counties that are classified as High Poverty or Persistent Poverty by the USDA Economic Research Service . . .”

Dated: November 20, 2017.
Christopher A. McLean,
Acting Administrator, Rural Utilities Service.

[FR Doc. 2017-25527 Filed 11-24-17; 8:45 am]

BILLING CODE P